NATIONAL AERONAUTICS AND SPACE ADMINISTRATION

[Notice: 17-076]

International Space Station National Laboratory Advisory Committee; Charter Renewal

AGENCY: National Aeronautics and Space Administration (NASA).

ACTION: Notice of renewal of the charter of the International Space Station National Laboratory Advisory Committee.

Pursuant to Sections 14(b)(1) and 9(c) of the Federal Advisory Committee Act, as amended (Pub. L. 92-463, 5 U.S.C. App.), and after consultation with the Committee Management Secretariat, General Services Administration, the NASA Acting Administrator has determined that renewal of the charter of the International Space Station National Laboratory Advisory Committee is in the public interest in connection with the performance of duties imposed on NASA by law. This committee is established under Section 602 of the NASA Authorization Act of 2008 (Pub. L. 110-422, 51 U.S.C. Section 70906). The renewed charter is for a two-year period ending October 6, 2019. For further information, contact Ms. Marla K. King, NASA Headquarters, 300 E Street SW., Washington, DC 20456, phone: (202) 358-1148; email: marla.k.king@nasa.gov.

Patricia D. Rausch,
Advisory Committee Management Division, National Aeronautics and Space Administration.

[FR Doc. 2017-22549 Filed 10-17-17; 8:45 am]

BILLING CODE 7510-13-P